DEPARTMENT OF TRANSPORTATION

Maritime Administration

[Docket No. MARAD-2000-7841]

Marine Transport Corporation; Notice of Application for Written Permission for Temporary Transfer to the Coastwise Trade

AGENCY: Maritime Administration, Transportation.

ACTION: Notice of application.

SUMMARY: Pursuant to section 506 of the Merchant Marine Act, 1936, as amended (Act), Marine Transport Corporation (MTC), by letter dated August 2, 2000, requests approval of the temporary transfer of the integrated tug barge, SMT Chemical Trader, Official Numbers 631332 and 631333, to the coastwise trade for a period of approximately four months beginning between November 1, 2000, and November 18, 2000. (MTC advises that because SMT Chemical Trader will be undergoing a required drydocking in early November, it is impossible at this time to know precisely when it will leave the yard and when the approximately four-month waiver period, if granted, will begin.)

DATES: You should submit your comments early enough to ensure that Docket Management receives them not later than close of business (5 p.m. edt) September 6, 2000.

ADDRESSES: Your comments should refer to docket number MARAD 2000-7841. You may submit your comments in writing to: Docket Clerk, U.S. DOT Dockets, Room PL-401, 400 7th St., SW, Washington, DC 20590. You may also submit them electronically via the internet at http://dmses.dot.gov/submit.

You may call Docket Management at (202) 366-9324 and visit the Docket Room from 10 a.m. to 5 p.m., EST., Monday through Friday, except Federal Holidays. An electronic version of this document is available on the World Wide Web at http://dms.dot.gov.

FOR FURTHER INFORMATION CONTACT: You may call Gregory V. Sparkman, Chief Division of Maritime Assistance Analysis, (202) 366-2400. You may send mail to Gregory V. Sparkman, Chief, Division of Maritime Assistance Analysis, Room 8117, Maritime Administration, 400 Seventh St., S.W., Washington, DC 20590.

SUPPLEMENTARY INFORMATION:

Comments

How Do I Prepare and Submit Comments? Your comments must be written and in English. To ensure that your comments are correctly filed in the Docket, please include the docket number of this document in your comments. We encourage you to write your primary comments in a concise fashion. However, you may attach necessary additional documents to your comments. There is no limit on the length of the attachments. Please submit two copies of your comments, including the attachments, to Docket Management at the address given above under ADDRESSES.

If you wish Docket Management to notify you upon its receipt of your comments, enclose a self-addressed, stamped postcard in the envelope containing your comments. Docket Management will return the postcard by mail.

How do I submit confidential business information? If you wish to submit any information under a claim of confidentiality, you should submit three copies of your complete submission, including the information you claim to be confidential business information, to the Chief Counsel, Maritime Administration, at the address given above under FOR FURTHER INFORMATION CONTACT. You should mark “CONFIDENTIAL” on each page of the original document that you would like to keep confidential. In addition, you should submit two copies, from which you have deleted the claimed confidential business information, to Docket Management at the address given above under ADDRESSES. When you send comments containing information claimed to be confidential business information, you should include a cover letter setting forth with specificity the basis for any such claim.

Will the agency consider late comments? We will consider all comments that Docket Management receives before the close of business on the comment closing date indicated above under DATES. To the extent possible, we will also consider comments that Docket Management receives after that date.

How can I read the comments submitted by other people? You may read the comments received by Docket Management at the address given above under ADDRESSES. The hours of the Docket Room are indicated above in the same location. You may also see the comments on the Internet. To read the comments on the Internet, take the following steps: Go to the Docket Management System (DMS) Web page of the Department of Transportation (http://dms.dot.gov/). On that page, click on “search.” On the next page (http://dms.dot.gov/search/), type in the four-digit docket number shown at the beginning of this document. The docket number for this document is MARAD 2000-7841. After typing the docket number, click on “search.” On the next page, which contains docket summary information for the docket you selected, click on the desired comments. You may download the comments.

Application Request

Pursuant to section 506 of the Merchant Marine Act, 1936, as amended (Act), Marine Transport Corporation (MTC), by letter dated August 2, 2000, requests approval of the temporary transfer of the integrated tug barge, SMT Chemical Trader, Official Numbers 631332 and 631333, to the coastwise trade for a period of approximately four months beginning between November 1, 2000, and November 18, 2000. (MTC advises that because SMT Chemical Trader will be undergoing a required drydocking in early November, it is impossible at this time to know precisely when it will leave the yard and when the approximately four-month waiver period, if granted, will begin.)

MTC provides the following statements in its letter dated August 2, 2000, in support of its request for approval under section 506 of the Act:

MTC is requesting approval of this temporary transfer to replace Marine Chemist, Official No. 529399, which is currently scheduled to begin its sixth special survey and a major drydocking on or about November 15, 2000.

MTC is requesting permission for a four-month transfer of SMT Chemical Trader in order to provide MTC with sufficient time to determine whether: (A) it will undertake the drydock needed for Marine Chemist to continue to trade after November 30, 2000; or (B) Marine Chemist will be laid up, scrapped or retired no later than March 18, 2001, from Jones Act service (March 18, 2001, is the date upon which the Construction-Differential Subsidy contract restrictions which currently apply to SMT Chemical Trader expire, leaving the vessel free to participate in the Jones Act trade). In no case, however, would the two vessels operate in the Jones Act trade at the same time during the four-month waiver request period.

Marine Chemist has a deadweight capacity of approximately 35,000 tons and is capable of the simultaneous carriage of up to 36 different cargoes, some of which require coated tanks, some of which require heated tanks, some of which require stainless steel tanks and some of which require tanks capable of carrying heavy cargoes with high specific gravities. Marine Chemist's unique configuration is required for its performance of five long-term contracts of affreightment, some of which have terms in excess of six years. Together, these contracts utilize approximately 90 percent of the vessel's cargo carrying capacity. Marine Chemist also carries small parcel cargoes from time-to-time. While SMT Chemical Trader is not identical to Marine Chemist, MTC believes that SMT Chemical Trader's combination of stainless tanks, coated tanks, heavy cargo tanks and her ability to carry a variety of cargoes simultaneously make her well suited to stand in for Marine Chemist while MTC determines the future of that vessel.

Because SMT Chemical Trader will only be used during the approximately four-month transfer period to perform the contracts of affreightment and to carry those parcel cargoes currently carried by Marine Chemist, permitting the entry of SMT Chemical Trader into the Jones Act will have no competitive impact on that trade. By substituting one of its own vessels for Marine Chemist, MTC will be able to maintain vital long-term business relationships with customers who entered into long-term contracts with MTC with the expectation and belief that their cargoes would, throughout the term of the contracts, be carried by and under the operational supervision of MTC personnel. MTC believes that its safety and operating history is the best in the Jones Act chemical trade, and it has developed, over many years, procedures, relationships and routines specific to the cargoes carried for these customers, all of whom place the highest premium on service and safety. MTC also believes that the use of any non-MTC vessels and personnel for the performance of MTC's specific contractual obligations assigned to Marine Chemist would be at odds with the expectations of its customers and a source of genuine concern to them.

In response to a request by the Maritime Administration, MTC, by letter dated August 15, 2000, includes the following information:

Marine Chemist currently trades between ports in the Gulf of Mexico and the West Coast of the United States, including Portland, Oregon, San Francisco, and Los Angeles. If the four-month waiver is granted for SMT Chemical Trader, it will serve the same geographic area of the coast currently served by Marine Chemist.

This notice is published as a matter of discretion, and the fact of its publication should in no way be considered a favorable or unfavorable decision on the application, as filed, or as may be amended. MARAD will consider all comments submitted in a timely fashion, and will take such action as may be deemed appropriate.

(Catalog of Federal Domestic Assistance Program)

By Order of the Maritime Administrator.
Dated: August 23, 2000.
Joel C. Richard,
Secretary, Maritime Administration

[FR Doc. 00-21923 Filed 8-25-00; 8:45 am]

BILLING CODE 4901-81-P